DEPARTMENT OF COMMERCE

National Institute of Standards and Technology

National Artificial Intelligence Advisory Committee Law Enforcement Subcommittee

AGENCY: National Institute of Standards and Technology, Department of Commerce.

ACTION: Revised notice of open meeting.

SUMMARY: The National Institute of Standards and Technology (NIST) announces that the National Artificial Intelligence Advisory Committee's Law Enforcement Subcommittee (NAIAC-LE or Subcommittee) will hold an open meeting via web conference on September 12, 2023, from 1 p.m. to 2 p.m. Eastern time. The primary purpose of this meeting is for the Subcommittee members to share and discuss updates on goals and deliverables. The final agenda will be posted to the NAIAC website: ai.gov/naiac/.

DATES: The meeting will be held on Tuesday, September 12, 2023 from 1 p.m. to 2 p.m. Eastern time.

ADDRESSES: The meeting will be held via web conference. Please see the SUPPLEMENTARY INFORMATION section of this notice for instructions on how to attend.

FOR FURTHER INFORMATION CONTACT: Alicia Chambers, Committee Liaison Officer, National Institute of Standards and Technology, 100 Bureau Drive, MS 1000, Gaithersburg, MD 20899, alicia.chambers@nist.gov or 301-975-5333, or Melissa Banner, Designated Federal Officer, National Institute of Standards and Technology, 100 Bureau Drive, MS 1000, Gaithersburg, MD 20899, melissa.banner@nist.gov or 301-975-5245. Please direct any inquiries to naiac@nist.gov.

SUPPLEMENTARY INFORMATION: Pursuant to the Federal Advisory Committee Act, as amended, 5 U.S.C. 1001 et seq., notice is hereby given that the NAIAC-LE will meet on Tuesday, September 12, 2023 from 1:00 p.m. to 2:00 p.m. Eastern time. The meeting will be open to the public and will be held virtually via web conference. The primary purpose of this meeting is for the Subcommittee members to share and discuss updates on goals and deliverables. The final agenda will be posted to the NAIAC website: ai.gov/naiac/.

The NAIAC-LE is authorized by Section 5104 of the National Artificial Intelligence Initiative Act of 2020 (Pub. L. 116-283). The Subcommittee advises the President through NAIAC on matters related to the development of artificial intelligence relating to law enforcement. Additional information on the NAIAC-LE is available at ai.gov/naiac/.

Comments: Individuals and representatives of organizations who would like to offer comments and suggestions related to items on the Subcommittee's agenda for this meeting are invited to submit comments in advance of the meeting. Approximately ten minutes will be reserved for public comments, which will be read on a first-come, first-served basis. Please note that all comments submitted via email will be treated as public documents and will be made available for public inspection. All comments must be submitted via email with the subject line “September 12, 2023, NAIAC-LE Meeting Comments” to naiac@nist.gov by 5 p.m. Eastern Time, Monday, September 11, 2023. NIST will not accept comments accompanied by a request that part or all of the comment be treated confidentially because of its business proprietary nature or for any other reason. Therefore, do not submit confidential business information or otherwise sensitive, protected, or personal information, such as account numbers, Social Security numbers, or names of other individuals.

Virtual Admittance Instructions: The meeting will be broadcast via web conference. Registration is required to view the web conference. Instructions to register will be made available on ai.gov/naiac/#MEETINGS. Registration will remain open until the conclusion of the meeting.

Alicia Chambers,
NIST Executive Secretariat.

[FR Doc. 2023-19656 Filed 9-11-23; 8:45 am]

BILLING CODE 3510-13-P